DEPARTMENT OF JUSTICE

Notice of Lodging of Revised Consent Decree Under the Clean Air Act

Under 28 CFR 50.7, notice is hereby given that on August 31, 2005, a First Revised Consent Decree in the matter of United States, et al. v. Marathon Ashland Petroleum LLC, Civil Action No. 4:01-CV-40119-PVG, was lodged with the United States District Court for the Eastern District of Michigan.

The First Revised Consent Decree supercedes a Consent Decree entered in the above-referenced action in August of 2001 (“August 2001 Consent Decree”) among the United States, as Plaintiff, the County of Wayne, the State of Louisiana, and the State of Minnesota, as Plaintiff-Intervenors, and Marathon Ashland Petroleum LLC (“MAP”), as Defendant. In the August 2001 Consent Decree, MAP agreed to undertake, inter alia, numerous projects to reduce emissions of air pollutants at seven refineries that MAP owns and operates. The proposed First Revised Consent Decree includes numerous changes, including substituting some of the original control technologies that proved ineffective or potentially unsafe for alternative, proven technologies, extending some compliance deadlines while accelerating others, incorporating some new final emissions limits, and modifying provisions relating to reporting, recordkeeping, modification, and termination.

The Department of Justice will receive for a period of thirty (30) days from the date of this publication comments relating to the First Revised Consent Decree. Comments should be addressed to the Assistant Attorney General, Environment and Natural Resources Division, P.O. Box 7611, U.S. Department of Justice, Washington, DC 20044-7611, and should refer to United States, et al. v. Marathon Ashland Petroleum LLC, D.J. Ref. No. 90-5-2-1-07247.

The First Revised Consent Decree may be examined at the Office of the United States Attorney, 211 W. Fort St., Suite 2300, Detroit, Michigan 48226, and at U.S. EPA Region 5, 77 W. Jackson St., Chicago, IL 60604. During the public comment period, the First Revised Consent Decree may also be examined on the following Department of Justice Web site, http://www.usdoj.gov/enrd/open.html. A copy of the First Revised Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. In requesting a copy from the Consent Decree Library, please enclose a check in the amount of $59.50 (25 cents per page reproduction cost) payable to the U.S. Treasury.

William D. Brighton,
Assistant Section Chief, Environmental Enforcement Section, Environment and Natural Resources Division.

[FR Doc. 05-17849 Filed 9-8-05; 8:45 am]

BILLING CODE 4410-15-M